NEIGHBORHOOD REINVESTMENT CORPORATION

Sunshine Act Meeting; Regular Meeting of the Board of Directors

TIME AND DATE: 2 p.m., Monday, November 20, 2000.

PLACE: Neighborhood Reinvestment Corporation, 1325 G Street, NW., Suite 800, Board Room, Washington, DC 20005.

STATUS: Open/Closed.

CONTACT PERSON FOR MORE INFORMATION: Jeffrey T. Bryson, General Counsel/Secretary (202) 220-2372.

AGENDA:

I. Call to Order

II. Approval of Minutes: August 23, Regular Meeting

III. Treasurer's Report:

IV. Executive Director's Quarterly Management Report

V. Personnel Committee Report (CLOSED) November 7, 2000 Meeting

VI. Adjourn

Jeffrey T. Bryson,
General Counsel/Secretary.

[FR Doc. 00-29465 Filed 11-14-00; 11:21 am]

BILLING CODE 7570-01-M